DEPARTMENT OF COMMERCE

National Oceanic and Atmospheric Administration

50 CFR Parts 223 and 226

[Docket No: 200918-0249]

RIN 0648-BJ52

Endangered and Threatened Species; Critical Habitat for the Threatened Indo-Pacific Corals, Extension of Public Comment Period

AGENCY: National Marine Fisheries Service (NMFS), National Oceanic and Atmospheric Administration (NOAA), Commerce.

ACTION: Proposed rule; second extension of comment period.

SUMMARY: We, NMFS, are extending the public comment period by 30 days for our proposed rule, published in the Federal Register on November 27, 2020, to designate critical habitat for seven threatened corals in U.S. waters in the Indo-Pacific (Acropora globiceps, Acropora jacquelineae, Acropora retusa, Acropora speciosa, Euphyllia paradivisa, Isopora crateriformis, and Seriatopora aculeata) under the Endangered Species Act. On December 23, 2020 the comment period was extended 30 days. The end of the public comment period is extended again from February 25, 2021, to March 27, 2021.

DATES: The comment period for the notice of proposed rulemaking published at 85 FR 76262, and first extended at 85 FR 83899, is extended. The public comment period is extended by 30 days to March 27, 2021. Comments must be received by March 27, 2021, as specified under ADDRESSES. Comments received after this date may not be accepted.

ADDRESSES: You may submit public comments in writing by any of the following methods. Comments must be received by March 27, 2021:

• Electronic Submissions: Submit all electronic public comments via the Federal eRulemaking Portal. Go to www.regulations.gov/#!docketDetail;D=NOAA-NMFS-2016-0131 click the “Comment Now” icon, complete the required fields, and enter or attach your comments.

• Mail: Lance Smith, Protected Resources Division, NMFS, Pacific Islands Regional Office, NOAA Inouye Regional Center, 1845 Wasp Blvd., Bldg. 176, Honolulu, HI 96818.

Instructions: You must submit comments by one of the previously described methods to ensure that we receive, document, and consider them. Comments sent by any other method, to any other address or individual, or received after the end of the comment period, may not be considered. All comments received are a part of the public record and will generally be posted to http://www.regulations.gov without change. All Personal Identifying Information (for example, name, address, etc.) voluntarily submitted by the commenter may be publicly accessible. Do not submit confidential business information or otherwise sensitive or protected information.

NMFS will accept anonymous comments (enter “N/A” in the required fields if you wish to remain anonymous).

FOR FURTHER INFORMATION CONTACT: Lance Smith, NMFS Pacific Islands Region, lance.smith@noaa.gov or 808-725-5131.

SUPPLEMENTARY INFORMATION: On November 27, 2020, NMFS proposed to designate critical habitat for seven Indo-Pacific corals listed as threatened under the Endangered Species Act (ESA) within U.S. waters in Guam, the Commonwealth of the Northern Mariana Islands (CNMI), American Samoa, and the Pacific Remote Island Area (PRIA). The seven species are Acropora globiceps, A. jacquelineae, A. retusa, A. speciosa, Euphyllia paradivisa, Isopora crateriformis, and Seriatopora aculeata. Proposed coral critical habitat consists of substrate and water column habitat characteristics essential for the reproduction, recruitment, growth, and maturation of the listed corals.

Proposed critical habitat consists of 17 separate units, each of which contains all ESA-listed corals that occur there. There are four units in American Samoa (Tutuila, Ofu-Olosega, Ta`u, Rose Atoll); seven in CNMI (Rota, Aguijan, Tinian, Saipan, Anatahan, Pagan, and Maug Islands); five in the PRIA (Howland, Palmyra, Kingman, Johnston, and Jarvis Islands); and one unit encompassing all proposed designations in Guam. Between one and six listed corals occur in each unit. The following areas are either ineligible for proposed critical habitat, or excluded because of national security impacts: A complex of overlapping Navy Surface Danger Zones off of Ritidian Point in Guam; other parts of Guam; parts of Tinian; a group of six Navy anchorage berths on Garapan Bank in Saipan; all of Farallon de Medinilla; and all of Wake Atoll.

Critical habitat protections apply only to Federal actions under section 7 of the ESA. Activities that are not funded, authorized, or carried out by a Federal agency are not subject to these protections. The proposed rule and other materials prepared in support of this action, including maps showing the proposed critical habitat, are available at: https://www.fisheries.noaa.gov/action/proposed-rule-designate-critical-habitat-threatened-indo-pacific-corals.

The original public comment period for this proposed rule was scheduled to close on January 26, 2021. In response to public input, we extended the public comment period by 30 days to February 25, 2021, and held two online public hearings on January 19 and January 21, 2021. At the public hearings, we received several requests to again extend the public comment period, to allow the public to adequately review the extensive supporting materials for the proposed rule in order to formulate public comments. Similarly, on January 26, 2021, we received a letter from the Governors of CNMI, Guam, and American Samoa requesting extension of the public comment period for the same reason. In response, we are extending the public comment period by another 30 days. We are accepting public comments for the proposed rule through March 27, 2021. Public comments can be submitted as described under ADDRESSES.

Authority: 16 U.S.C. 1531 et seq.

Dated: February 3, 2021.
Samuel D. Rauch III,
Deputy Assistant Administrator for Regulatory Programs, National Marine Fisheries Service.

[FR Doc. 2021-02540 Filed 2-8-21; 8:45 am]

BILLING CODE 3510-22-P